DEPARTMENT OF THE INTERIOR

Bureau of Land Management

[CA-180]

Meeting of the Central California Resource Advisory Council

ACTION: Notice of Public Meeting.

SUMMARY: In accordance with the Federal Land Policy and Management Act (FLPMA) and the Federal Advisory Committee Act of 1972 (FACA), the U.S. Department of the Interior, Bureau of Land Management (BLM) Central California Resource Advisory Council will meet as indicated below.

DATES: The meeting will be held Friday and Saturday, Nov. 17 and 18, 2006, in the Meeting Room of the Dow Villa Motel, 310 S. Main St., Lone Pine, California. On Nov. 17, the members will convene at 9 a.m. for a business meeting, followed by a field trip to the Alabama Hills beginning at noon. Members of the public are welcome to attend the tour and meeting. Field tour participants must provide their own transportation and lunch. The Advisory Council will resume its meeting at 9 a.m. on Nov. 18 in the Dow Villa Motel Conference Room. Time for public comment is reserved from 10 a.m. to noon on Nov. 18.

FOR FURTHER INFORMATION CONTACT: BLM Bishop Field Office Manager Bill Dunkelberger, (760) 872-5011; or BLM Central California Public Affairs Officer David Christy, (916) 985-4474.

SUPPLEMENTARY INFORMATION: The twelve-member Central California Resource Advisory Council advises the Secretary of the Interior, through the Bureau of Land Management, on a variety of public land issues associated with public land management in the Central California. At this meeting, agenda items include discussion of a recreation fee business plan for the Clear Creek Special Recreation Management Area and management of the Alabama Hills area. The RAC members will also hear status reports from the Folsom, Hollister, Bakersfield and Bishop field office managers. The meeting is open to the public. The public may present written comments to the Council, and time will be allocated for hearing public comments. Depending on the number of persons wishing to comment and the time available, the time for individual oral comments may be limited. Individuals who plan to attend and need special assistance such as sign language interpretation or other reasonable accommodations should contact the BLM as indicated above.

Charge Code: CA 110-1430-HN.

Dated: October 11, 2006.
David Christy,
Public Affairs Officer.

[FR Doc. E6-17282 Filed 10-17-06; 8:45 am]

BILLING CODE 4310-14-P